DEPARTMENT OF TRANSPORTATION

Federal Aviation Administration

14 CFR Part 39

[Docket No. FAA-2013-0314; Directorate Identifier 2013-CE-004-AD; Amendment 39-17490; AD 2013-13-02]

RIN 2120-AA64

Airworthiness Directives; B-N Group Ltd. Airplanes

AGENCY: Federal Aviation Administration (FAA), Department of Transportation (DOT).

ACTION: Final rule.

SUMMARY: We are adopting a new airworthiness directive (AD) for all B-N Group Ltd. Models BN-2, BN-2A, BN2A MK. III, BN2A MK. III-2, BN2A MK. III-3, BN-2A-2, BN-2A-20, BN-2A-21, BN-2A-26, BN-2A-27, BN-2A-3, BN-2A-6, BN-2A-8, BN-2A-9, BN-2B-20, BN-2B-21, BN-2B-26, BN-2B-27, BN-2T, and BN-2T-4R airplanes. This AD results from mandatory continuing airworthiness information (MCAI) issued by an aviation authority of another country to identify and correct an unsafe condition on an aviation product. The MCAI describes the unsafe condition as inadequate sealing of the fuel filler cap (fuel tank cap) and the fuel filler receptacle (fuel tank opening), which could lead to contaminated fuel and result in in-flight shutdown of the engine. We are issuing this AD to require actions to address the unsafe condition on these products.

DATES: This AD is effective August 1, 2013.

The Director of the Federal Register approved the incorporation by reference of a certain publication listed in the AD as of August 1, 2013.

ADDRESSES: You may examine the AD docket on the Internet at http://www.regulations.gov or in person at Document Management Facility, U.S. Department of Transportation, Docket Operations, M-30, West Building Ground Floor, Room W12-140, 1200 New Jersey Avenue SE., Washington, DC 20590.

For service information identified in this AD, contact Britten-Norman Aircraft Ltd, Commodore House, Mountbatten Business Centre, Millbrook Road East, Southampton SO15 1HY, United Kingdom; telephone: +44 01983 872511; fax: +44 01983 873246; email: info@bnaircraft.com; Internet: www.britten-norman.com. You may review copies of the referenced service information at the FAA, Small Airplane Directorate, 901 Locust, Kansas City, Missouri 64106. For information on the availability of this material at the FAA, call (816) 329-4148.

FOR FURTHER INFORMATION CONTACT: Taylor Martin, Aerospace Engineer, FAA, Small Airplane Directorate, 901 Locust, Room 301, Kansas City, Missouri 64106; telephone: (816) 329-4138; fax: (816) 329-4090; email: taylor.martin@faa.gov.

SUPPLEMENTARY INFORMATION:

Discussion

We issued a notice of proposed rulemaking (NPRM) to amend 14 CFR part 39 to include an AD that would apply to the specified products. That NPRM was published in the Federal Register on April 9, 2013 (78 FR 21072). That NPRM proposed to correct an unsafe condition for the specified products. The MCAI states:

Preliminary investigations into a recent engine failure on a BN2 aeroplane have attributed the event to water contaminated fuel. The contamination is suspected to have occurred due to inadequate sealing between a post-mod NB-M-477 fuel filler cap and a pre-mod NB-M-477 fuel filler receptacle. This condition, if not detected and corrected, could lead to fuel water contamination, possibly resulting in in-flight shut down of the engine.

For the reasons described above, this AD requires a one-time inspection of the fuel filler cap and fuel filler receptacle to determine whether they are at the same modification state and, depending on findings, accomplishment of applicable corrective action(s). To mitigate the risk of water contamination pending the installation of matching fuel filler cap and receptacle, this AD also requires daily pre-flight water contamination checks.

You may obtain further information by examining the MCAI in the AD docket.

Comments

We gave the public the opportunity to participate in developing this AD. We received no comments on the NPRM (78 FR 21072, April 9, 2013) or on the determination of the cost to the public.

Conclusion

We reviewed the relevant data and determined that air safety and the public interest require adopting the AD as proposed except for minor editorial changes. We have determined that these minor changes:

• Are consistent with the intent that was proposed in the NPRM (78 FR 21072, April 9, 2013) for correcting the unsafe condition; and

• Do not add any additional burden upon the public than was already proposed in the NPRM (78 FR 21072, April 9, 2013).

Costs of Compliance

We estimate that this AD will affect 114 products of U.S. registry. We also estimate that it will take about 1 work-hour per product to comply with the basic requirements of this AD. The average labor rate is $85 per work-hour. Required parts will cost about $0 per product.

Based on these figures, we estimate the cost of the AD on U.S. operators to be $9,690, or $85 per product.

In addition, we estimate that any necessary follow-on actions will take about 1 work-hour and require parts costing $400, for a cost of $485 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov; or in person at the Docket Management Facility between 9 a.m. and 5 p.m., Monday through Friday, except Federal holidays. The AD docket contains the NPRM, the MCAI, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-13-02 B-N Group Ltd.: Amendment 39-17490; Docket No. FAA-2013-0314; Directorate Identifier 2013-CE-004-AD.

(a) Effective Date

This airworthiness directive (AD) becomes effective August 1, 2013.

(b) Affected ADs

None.

(c) Applicability

This AD applies to B-N Group Ltd. Models BN-2, BN-2A, BN2A MK. III, BN2A MK. III-2, BN2A MK. III-3, BN-2A-2, BN-2A-20, BN-2A-21, BN-2A-26, BN-2A-27, BN-2A-3, BN-2A-6, BN-2A-8, BN-2A-9, BN-2B-20, BN-2B-21, BN-2B-26, BN-2B-27, BN-2T, and BN-2T-4R airplanes, all serial numbers, certificated in any category.

(d) Subject

Air Transport Association of America (ATA) Code 28: Fuel.

(e) Reason

This AD was prompted by mandatory continuing airworthiness information (MCAI) originated by an aviation authority of another country to identify and correct an unsafe condition on an aviation product. The MCAI describes the unsafe condition as inadequate sealing of the fuel filler cap (fuel tank cap) and the fuel filler receptacle (fuel tank opening). We are issuing this AD to prevent, detect, and correct inadequate sealing of the fuel filler cap (fuel tank cap) and the fuel filler receptacle (fuel tank opening), which could lead to contaminated fuel and result in in-flight shutdown of the engine.

(f) Actions and Compliance

Unless already done, do the following actions as specified in paragraphs (f)(1) through (f)(5) of this AD:

(1) Within the next 30 days after August 1, 2013 (the effective date of this AD), inspect the aircraft fuel replenishment points on the top surface of the wings to determine that the fuel filler cap (fuel tank cap) matches the fuel filler receptacle (fuel tank opening) following the instructions of paragraph 6 of Britten-Norman Service Bulletin Number SB 332, Issue 1, dated December 6, 2012.

(2) If a mismatch of the fuel filler cap and the fuel filler receptacle is found during the inspection required by paragraph (f)(1) of this AD, within 3 calendar months after August 1, 2013 (the effective date of this AD), install the correct fuel filler cap to match the fuel filler receptacle installed on the airplane following the instructions of paragraph 6 of Britten-Norman Service Bulletin Number SB 332, Issue 1, dated December 6, 2012.

(3) If a mismatch of the fuel filler cap and the fuel filler receptacle is found during the inspection required by paragraph (f)(1) of this AD, before further flight and thereafter during each daily pre-flight check, do water contamination checks of the gascolators and fuel tank sump drains, including those of the wing tip tanks if installed. This check is in addition to the normal daily checks already required.

(4) The modification required by paragraph (f)(2) of this AD terminates the daily pre-flight water contamination checks as specified in paragraph (f)(3) of this AD.

(5) After August 1, 2013 (the effective date of this AD), do not install on any airplane a fuel filler cap that does not match the fuel filler receptacle and has the correct seal.

(g) Other FAA AD Provisions

The following provisions also apply to this AD:

(1) Alternative Methods of Compliance (AMOCs): The Manager, Standards Office, FAA, has the authority to approve AMOCs for this AD, if requested using the procedures found in 14 CFR 39.19. Send information to ATTN: Taylor Martin, Aerospace Engineer, FAA, Small Airplane Directorate, 901 Locust, Room 301, Kansas City, Missouri 64106; telephone: (816) 329-4138; fax: (816) 329-4090; email: taylor.martin@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2012-0270, dated December 20, 2012, for related information, which can be found in the AD docket on the Internet at http://www.regulations.gov.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Britten-Norman Service Bulletin Number SB 332, Issue 1, dated December 6, 2012.

(ii) Reserved.

(3) For B-N Group Ltd. service information identified in this AD, contact Britten-Norman Aircraft Ltd, Commodore House, Mountbatten Business Centre, Millbrook Road East, Southampton SO15 1HY, United Kingdom; telephone: +44 01983 872511; fax: +44 01983 873246; email: info@bnaircraft.com; Internet: www.britten-norman.com.

(4) You may view this service information at FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on June 18, 2013.
James E. Jackson,
Acting Manager, Small Airplane Directorate, Aircraft Certification Service.

[FR Doc. 2013-14979 Filed 6-26-13; 8:45 am]

BILLING CODE 4910-13-P